DEPARTMENT OF COMMERCE

National Oceanic and Atmospheric Administration

[I.D. 071206C]

Endangered and Threatened Species; Take of Anadromous Fish

AGENCY: National Marine Fisheries Service (NMFS), National Oceanic and Atmospheric Administration (NOAA), Commerce.

ACTION: Notice of availability and request for comment.

SUMMARY: Notice is hereby given that the Northwest Indian Fisheries Commission (NWIFC) has submitted a Tribal Resource Management Plan (Tribal Plan) for NMFS to evaluate. It was presented by the Bureau of Indian Affairs (BIA) on behalf of the Northwest Indian Tribes; the submission fulfills the Tribes' obligations under the protective regulations promulgated for Puget Sound Chinook salmon and Hood Canal summer-run chum salmon under the Endangered Species Act (ESA). The Tribal Plan describes research and assessment activities that may affect listed Puget Sound Chinook salmon and Hood Canal summer-run chum salmon in Washington State. NMFS has completed a proposed evaluation of how well the Tribal Plan fulfills ESA criteria, and the Secretary of Commerce (Secretary) is making that proposed evaluation available for public comment.

DATES: Written comments on the Secretary's proposed evaluation must be received at the appropriate address or fax number (see ADDRESSES) no later than 5 p.m. Pacific Standard Time on April 11, 2007.

ADDRESSES: Written comments and requests for copies of the proposed evaluation should be addressed to Gary Rule, Protected Resources Division, National Marine Fisheries Service, 1201 NE Lloyd Boulevard, Suite 1100, Portland, OR 97232-1274. Comments may also be sent via fax to (503) 230 5441. Comments will not be accepted if submitted via e-mail or the Internet.

FOR FURTHER INFORMATION CONTACT: Gary Rule, Portland, OR (ph.: 503- 230 5424, Fax: 503-210-5441, e-mail: gary.rule@noaa.gov).

SUPPLEMENTARY INFORMATION:

Species Covered in this Notice

Puget Sound Chinook salmon (Oncorhynchus tshawytscha)

Hood Canal summer-run chum salmon (O. keta)

Authority

Under section 4 of the ESA, the Secretary is required to adopt such regulations as he deems necessary and advisable for the conservation of the species listed as threatened. The ESA Tribal 4(d) rule (70 FR 37160; June 28, 2005) states that the ESA section 9 take prohibitions do not apply to Tribal Plans that will not appreciably reduce the likelihood of survival and recovery for the listed species.

The Tribal Plan

The NWIFC-through the BIA and on behalf of the Northwest Indian Tribes-has submitted a Tribal Plan for scientific research and assessment activities within the range of the Puget Sound Chinook salmon and Hood Canal summer-run chum salmon ESUs. The Northwest Indian Tribes conduct, independently and in cooperation with other agencies, a variety of research and assessment projects. These projects provide the technical basis for managing fisheries and conserving and restoring salmon stocks and their habitat. The need for an improved understanding of salmonid survival in the freshwater and early marine life stages drives much of the current research. The Tribal Plan includes implementation, monitoring, and evaluation procedures designed to ensure that the research is consistent with the objectives of the ESA. The research activities described in the Tribal Plan would take place over a ten-year period starting in 2007.

As 50 CFR 223.209 requires, the Secretary must determine whether the Tribal Plan would appreciably reduce the likelihood of survival and recovery for Puget Sound Chinook salmon and Hood Canal summer-run chum salmon ESUs. The Secretary must take comments on how the Tribal Plan addresses the criteria in 50 CFR 223.209 in making that determination.

Dated: March 7, 2007.
Angela Somma,
Chief, Endangered Species Division, Office of Protected Resources, National Marine Fisheries Service.

[FR Doc. E7-4441 Filed 3-9-07; 8:45 am]

BILLING CODE 3510-22-S